NATIONAL SCIENCE FOUNDATION

Request for Information (RFI): Use of National Science Foundation Overseas Offices in Paris, Tokyo, Beijing by Broader Stakeholder Community

AGENCY: National Science Foundation.

ACTION: Request for information (RFI).

FOR FURTHER INFORMATION CONTACT: NSF-FOREIGN-OFFICE-INFO@LISTSERV.NSF.GOV.

DATES: To be considered, submissions must be received by January 18, 2013.

SUMMARY: Purpose: As part of an assessment investigating the function of the three National Science Foundation overseas offices, this RFI seeks to solicit input from as large a set of stakeholders as possible.

SUPPLEMENTARY INFORMATION:

Background

NSF's current strategic plan states that “NSF envisions a nation that capitalizes on new concepts in science and engineering and provides global leadership in advancing research and education.” Because science and engineering are increasingly global, NSF's Office of International Science and Engineering (OISE) seeks to ensure that U.S. institutions and researchers are globally engaged, are able to advance their research through international collaboration, and maintain U.S. leadership within the global scientific community. To pursue its goals in these areas, OISE operates three international offices. NSF opened its first international office in Tokyo in 1960. Two decades later, the NSF Europe Office, affiliated with UNESCO, opened in Paris and in 2006 the NSF Beijing office was opened.

The major functions of these three offices are:

• Facilitation: Promote collaboration between the science and engineering communities of the United States and the respective country/region.

• Representation: Serve as a liaison between NSF and agencies, institutions and researchers.

• Reporting: Monitor and report on science and engineering developments and policies.

In responding to the following questions, please provide as much detail regarding each interaction and with which office, wherever possible.

Specifically the assessment seeks public comment on the questions listed below:

(1) In what capacity, if any, have you directly engaged with the NSF overseas offices (e.g. as a Principal Investigator (PI), Co-PI, postdoctoral researcher, graduate student, or undergraduate student on a research project; as an NSF employee on official travel; as a U.S. Government official on a visit to a foreign country, or in any other capacity)? Please be specific with respect to which office(s) you have interacted with, and on what basis (e.g. one time only, 2-5 times per year, etc.).

(2) What was the nature of that interaction with the overseas offices? Why did you contact them (e.g. a visit to one of the three overseas offices while abroad, to help connect with foreign researchers, to identify research opportunities in a foreign country, to help with logistical aspects of current research in a foreign country, etc.)?

(3) Was the interaction valuable to you? How would you characterize the quality of service and/or information that you received in your interactions with each office? Similarly, are there any services you would have expected to—but did not—receive from the overseas offices?

(4) Please provide examples of opportunities that were created as a result of these interactions, if any.

(5) Are there other interactions you have had with NSF on international research activities other than through NSF's 3 overseas offices?

(6) Are there ways in which NSF's overseas offices might better be able to directly serve your overseas research needs?

(7) Please use this space to address any additional concerns you would like to raise with respect to the existence and value of NSF's three overseas offices.

(8) If you believe that describing your background (e.g., U.S. or foreign resident, field or sector of employment, etc.) would help to provide context for your responses, please do so here. Your participation in responding to this RFI is completely voluntary. All responses will be included in a content analysis following the close of the response period and complete confidentiality of individual responses will be maintained. Individuals are not mandated to respond to each question. Please note that the Government will not pay for response preparation or for the use of any information contained in the response.

Submission Instructions

All comments must be submitted electronically to: NSF-FOREIGN-OFFICE-INFO@LISTSERV.NSF.GOV.

Responses to this RFI will be accepted through January 18, 2013. You will receive an electronic confirmation acknowledging receipt of your response, but will not receive individualized feedback on any suggestions. No basis for claims against the U.S. Government shall arise as a result of a response to this request for information or from the Government's use of such information. Additionally, in reporting results from this call for information, respondent comments will be kept confidential to the extent allowed by law and reported only in aggregate form.

Specific questions about this RFI should be directed to the following email address: NSF-FOREIGN-OFFICE-INFO@LISTSERV.NSF.GOV.

Dated: December 17, 2012.
Suzanne H. Plimpton,
Reports Clearance Officer, National Science Foundation.

[FR Doc. 2012-30697 Filed 12-19-12; 8:45 am]

BILLING CODE 7555-01-P